DEPARTMENT OF TRANSPORTATION

Federal Aviation Administration

14 CFR Part 71

[Airspace Docket No. FAA-01-ANM-16]

Establishment of Class E Airspace at Richfield Municipal Airport, Richfield, UT

AGENCY: Federal Aviation Administration (FAA), DOT.

ACTION: Final rule.

SUMMARY: This action will establish Class E5 airspace at Richfield Municipal Airport, Richfield, UT. Recently developed Area Navigation (RNAV)/ Global Positioning (GPS) Standard Terminal Arrival Routes (STARs) and Departure Procedures (DPs) have made this action necessary for the containment of aircraft executing Instrument Flight Rule (IFR) operations at Richfield Municipal Airport within controlled airspace. The intended effect of this action is to provide an increased level of safety for aircraft executing IFR operations between the terminal and en route phase of flight at Richfield Municipal Airport, Richfield, UT.

EFFECTIVE DATE: May 7, 2003.

FOR FURTHER INFORMATION CONTACT: Ed Haeseker, ANM-520.7; telephone (425) 227-2527; Federal Aviation Administration, Docket No. 01-ANM-16, 1601 Lind Avenue SW, Renton, Washington 98055-4056.

SUPPLEMENTARY INFORMATION:

History

On December 2, 2002, the FAA issued a Notice of Proposed Rulemaking to amend Title 14 Code of Federal Regulations, Part 71 (14 CFR part 71) by establishing Class E5 airspace at Richfield Municipal Airport, Richfield, UT. [67 FR 71058]. The proposal would provide an increased level of safety for aircraft executing IFR operations between terminal and en route phases of flight at Richfield Municipal Airport, Richfield, UT. Interested parties were invited to participate in the rulemaking proceeding by submitting written comments on the proposal. No comments were received. Class E5 airspace extending upward from 700 feet above the surface, is published in Paragraph 6005, of FAA Order 7400.9K, dated August 30, 2002, and effective September 16, 2002, which is incorporated by reference in 14 CFR Part 71. The Class E5 airspace designation listed in this document will subsequently be published in the Order.

The Rule

This amendment to 14 CFR part 71 establishes Class E5 airspace at Richfield Municipal Airport, Richfield, UT. Class E5 controlled airspace is necessary to cotain aircraft executing IFR operations at Richfield Municipal Airport. The FAA establishes Class E5 airspace, where necessary, to contain aircraft transitioning between terminal and en route environments. This rule is designed to provide for the safe and efficient use of navigable airspace and to promote safe flight operations under IFR at Richfield Municipal Airport and between terminal and en route transition phases. The new Class E5 airspace will be depicted on aeronautical charts for pilot reference. The Coordinates for this airspace docket are based on North American Datum 83. The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE; AIRWAYS; ROUTES; AND REPORTING POINTS

1. The authority citation for 14 CFR Part 71 continues to read as follows:

Authority: U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designation and Reporting Points, dated August 30, 2002, and effective September 16, 2002, is amended as follows:

Paragraph 6005 Class E airspace areas extending upward from 700 feet or more above the surface of the earth.

* * * * *

ANM CO E5 Richfield Municipal Airport, Richfield, UT

[Lat. 38°44′11″ N, long. 112°05′56″ W.]

That airspace extending upward from 700 feet above the surface within a 7.5 mile radius of the Richfield Municipal Airport; and that airspace extending upward from 1,200 feet above the surface bounded by a line beginning at lat. 39°24′30″ N., long. 112°27′41″ W.; to lat. 39°16′00″ N., long. 112°00′00″ W.; to lat. 39°42′00″ N., long. 110°54′00″ W.; to lat. 39°27′00″ N., long. 110°46′00″ W.; to lat. 39°03′00″ N., long. 110°30′00″ W., to lat. 38°32′00″ N., long. 110°42′00″ W., to lat.38°20′00″ N., long. 110°48′00″ W.; to lat. 38°40′00″ N., long. 111°47′00″ W.; to lat. 38°16′40″ N., long. 112°36′40″ W.; to lat. 38°29′00″ N., long. 112°53′00″ W.; to lat. 39°11′30″ N., long. 112°34′00″ W.; thence to the point of origin, excluding that airspace within Federal Airways and the Price, UT, Huntington, UT, Milford, UT, and Delta, UT Class E airspace.

* * * * *

Issued in Seattle, Washington, on April 11, 2003.
ViAnne Fowler,
Acting Assistant Manager, Air Traffic Division, Northwest Mountain Region.

[FR Doc. 03-11233 Filed 4-6-03; 8:45 am]

BILLING CODE 4910-13-M